DEPARTMENT OF THE INTERIOR

National Park Service

[NPS-WASO-NAGPRA-NPS0032392; PPWOCRADN0-PCU00RP14.R50000]

Notice of Inventory Completion: Department of Anthropology, University of South Florida, Tampa, FL

AGENCY: National Park Service, Interior.

ACTION: Notice.

SUMMARY: The Department of Anthropology, University of South Florida (USF) has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Department of Anthropology, University of South Florida. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Department of Anthropology, University of South Florida at the address in this notice by September 10, 2021.

FOR FURTHER INFORMATION CONTACT: Thomas J. Pluckhahn, Department of Anthropology, University of South Florida, 4202 E Fowler Avenue, SOC 107, Tampa, FL 33620-8100, telephone (813) 549-9742, email tpluckhahn@usf.edu.

SUPPLEMENTARY INFORMATION: Notice is here given in accordance with the Native American Graves Protection and Repatriation Act (NAGPRA), 25 U.S.C. 3003, of the completion of an inventory of human remains under the control of the Department of Anthropology, University of South Florida, Tampa, FL. The human remains were removed from various sites in Florida.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Department of Anthropology, University of South Florida professional staff in consultation with representatives of the Seminole Tribe of Florida [previously listed as Seminole Tribe of Florida (Dania, Big Cypress, Brighton, Hollywood, & Tampa Reservations)] and The Seminole Nation of Oklahoma.

The Alabama-Coushatta Tribe of Texas [previously listed as Alabama-Coushatta Tribes of Texas]; Alabama-Quassarte Tribal Town; Coushatta Tribe of Louisiana; Jena Band of Choctaw Indians; Kialegee Tribal Town; Miccosukee Tribe of Indians; Mississippi Band of Choctaw Indians; Poarch Band of Creek Indians [previously known as the Poarch Band of Creeks, and as the Poarch Band of Creek Indians of Alabama); The Choctaw Nation of Oklahoma; The Muscogee (Creek) Nation; and the Thlopthlocco Tribal Town were invited to consult but did not participate.

Hereafter, all Indian Tribes listed in this section are referred to as “The Consulted and Invited Tribes.”

History and Description of the Remains

In 1988 and 1999, human remains representing, at minimum, six individuals were removed from the Corbin-Tucker site (8CA142) in Calhoun County, FL, by USF faculty member Dr. Nancy White. The site is associated with the Fort-Walton material culture complex (ca. A.D. 1440-1640). Radiocarbon dates on samples of the human remains indicate a date in the 1600s, perhaps associated with the early mission period in Florida. The human remains belong to one adult female and five individuals of undetermined age and sex. No known individuals were identified. The 2,550 associated funerary objects are one shell cup, 2,346 ceramic sherds, one lot of charcoal (277.6 g), 82 faunal remains, 49 floral remains, 25 flaked stone, and 46 soil samples. (A greenstone celt and two copper ornaments found in association with the burials and reported in publications were released to the private landowner.)

In 1975, human remains representing, at minimum, one individual were removed from the McKinney Midden site (also referred to as the Land O'Lakes site) (8CI127) in Citrus County, FL. The human remains were collected by an amateur archeologist and subsequently donated to the University of South Florida. McKinney Midden is a midden and possible mound site located along the shore of the Homosassa River. The Florida Master Site File lists the occupation of the site as “unspecified prehistoric,” but a brief report by the avocational archeologist who excavated the human remains suggests occupations dating from Late Archaic to Mississippian (ca. 1000 B.C. to A.D. 1500). The human remains belong to one individual of undetermined age and sex. No known individual was identified. No associated funerary objects are present.

In 1980, human remains representing, at minimum, 28 individuals were excavated from the Gibsonton site (8HI26), in Hillsborough County, FL, by former USF faculty member Dr. Stephen Gluckman. The Gibsonton site is a prehistoric village and cemetery located along the south side of the Alafia River. Dr. Gluckman conducted salvage excavations on a portion of the site after removal of palm trees by county road workers led to the inadvertent discovery of human remains. The excavations were later summarized in an article for The Florida Anthropologist by Jeffrey Mitchem, who participated in the excavations as a graduate student. The Florida Master Site File lists components from ranging from Woodland (Manasota and Weeden Island I, 700 B.C. to A.D. 700) to Mississippian (Safety Harbor, A.D. 1000 to 1500) for the Gibsonton site. However, the excavation report indicates that the ceramic assemblage is most consistent with a late Weeden Island association (ca. A.D. 600 to 1000). The highly fragmentary human remains belong to nine adults (based on repetition of left ulnae) and 19 juveniles of multiple ages. No known individuals were identified. No associated funerary objects are present.

In 1974, human remains representing, at minimum, seven individuals were removed from the Barley Barbor II site (8MT28), a small burial mound in Martin County, FL, by former USF faculty member Dr. Ray Williams. The excavations were conducted under a grant from the Florida Division of Archives, History, and Management in anticipation of the destruction of the mound by the construction of a Florida Power and Light reservoir and plant. The Florida Master Site File lists components on the site ranging from Woodland (Glades II, A.D. 750-1200) to Mississippian (Glades III, A.D. 1000-1700); however, Williams reported the main period of use of the mound as Glades I Early, based on the ceramic assemblage and a radiocarbon date of 2110 ± 50 BP (UM-370). The human remains belong to six adults of undetermined sex and one individual of undetermined age and sex. No known individuals were identified. The 63 associated funerary objects are one flaked stone; three shells; 20 unmodified rocks; one lot of charred botanicals (6.62 g); 31 faunal remains; four concretions; one lot of miscellaneous metals (25.97 g); one metal bolt; and one fulgurite.

At unknown date, human remains representing, at minimum, eight individuals, were removed from the Weeden Island site (8PI1), in Pinellas County, FL. How these human remains were acquired is unknown. Some of them may have been obtained by donation from the St. Petersburg Museum of History. Tags included with some of the human remains suggest they were collected many years ago. Weeden Island, the type site for a ceramic type and phase of the same name, consists of a large shell midden and cemetery. The site was first described in print by S.T. Walker in 1880. Major excavations were led by Jesse Walter Fewkes for the Smithsonian Institution in 1923-1924. The Florida Master Site File lists components ranging from Late Archaic (Orange), Woodland (Manasota, Swift Creek, Weeden Island, 1000 B.C. to A.D. 1000), Mississippian (Safety Harbor, A.D. 1000-1500), to American (19th and 20th centuries). However, the most intensive pre-colonial settlement appears to have come in the Weeden Island and Safety Harbor periods, from around A.D. 100 to 1550. The human remains belong to eight individuals of undetermined age and sex. No known individuals were identified. No associated funerary objects are present.

In 1971, human remains representing, at minimum, four individuals were excavated from the Bay Pines site (8PI64), in Pinellas County, FL, by members of the Suncoast Archaeological Society, a chapter of the Florida Anthropological Society. Bay Pines was a prehistoric midden and cemetery first recorded by S.T. Walker in the late nineteenth century. The site was largely destroyed for a Veterans Administration hospital complex and other developments. The excavations by the Suncoast Archaeological Society were conducted in anticipation of the destruction of a portion of the site for the construction of a nursing home and were briefly reported by John Gallagher and Lyman Warren in The Florida Anthropologist (1975). The Florida Master Site File site form lists components dating from the Late Archaic (3000 to 1000 B.C.) to the Woodland (1000 B.C. to A.D. 1000) periods. The published report indicates an occupation dating mainly to the latter period, specifically the Perico Island, Deptford, and early Weeden Island phases. The human remains belong to four individuals of undetermined age and sex. No known individuals were identified. The 4,106 associated funerary objects are 110 ceramic sherds, two pieces of charcoal, 3,986 faunal remains, three flaked stones, one fossilized faunal, three shell columella, and one metal pop top.

Sometime between 1952 and 1965, human remains representing, at minimum, one individual were removed from site 8HI50, located on MacDill Airforce Base, in Hillsborough County, FL. The human remains appear to have been removed by former USF faculty member Dr. Simon Messing. The Florida Master Site File lists the culture types represented on the site as Manasota and Weeden Island I and II, generalizable to the Woodland period (1000 B.C. to A.D. 1000). The human remains belong to one individual of undetermined age and sex. No known individuals were identified. No associated funerary objects are present.

At various dates, human remains representing, at minimum, five individuals were removed from the Cockroach Key/Indian Hill (8HI2) site, a mound complex on an anthropogenic island located along the eastern shore of Tampa Bay, in Hillsborough County, FL. The site was noted by S. T. Walker in the late 1800s. Excavations were later conducted by C.B. Moore. In the 1930s, Works Progress Administration (WPA) crews excavated much of the burial mound on the site, as later reported by Gordon Willey and Ripley Bullen. Some of the human remains appear to have been collected by Karlis Kaklins in 1964, while a tag identifies others as being excavated by pothunters in 1985. The Florida Master Site File lists the components on site 8HI2 as Woodland (Glades I, 1000 B.C. to A.D. 1000) and Mississippian (Glades II and III, A.D. 750 to 1700). The human remains belong to five individuals of undetermined age and sex. No known individuals were identified. The 23 associated funerary objects are four shells and 19 ceramics identified as coming from a provenience described as “Cockroach Key Burial Mound Material Karklins 10-31-64.”

At an unknown date, human remains representing, at minimum, one individual were removed from the Little Cockroach Key site (8HI38), a shell midden and burial mound on an island of the same name located on the eastern margin of Tampa Bay in Hillsborough County, FL. According to documents on file at the Florida Master Site File, archeologist John Goggin recorded the site in 1952, based on information provided by William Plowden. These human remains were acquired in 1977, but how or from whom they were acquired is unknown. The Florida Master Site File lists the site as dating to the Safety Harbor period (A.D. 1000-1500). The human remains belong to one individual of undetermined age and sex. No known individual was identified. The three associated funerary objects are ceramic sherds.

In 1980, human remains representing, at minimum, one individual were removed from the Briarwood Site, in Pasco County, FL. The human remains were excavated under the direction of Dr. Stephen Gluckman in advance of the construction of a housing development. The Briarwood site is dated primarily to the Safety Harbor period, ca. A.D. 1000 to 1550. A brief report by Jeffrey Mitchem, published in a 1985 issue of Florida Scientist, indicates that the remains of approximately 82 individuals were removed, and that most of them were sent to Florida Atlantic University for analysis. Mitchem also reported that most of excavated artifacts were sent to the Florida Museum of Natural History in Gainesville, FL. The human remains at the University of South Florida, which consist of very small fragments of bone that were recovered from flotation samples identified as coming from burial contexts, belong to one individual of unidentified age and sex. No known individual was identified. The one associated funerary object is one lot of small charcoal fragments.

At an unknown date, human remains representing, at minimum, one individual were removed from the Buck Island site (8HI6), on the University of South Florida Forest Preserve in Hillsborough County, FL. Published sources, along with documents on file at the Florida Master Site File, indicate that Buck Island was occupied repeatedly from the Paleoindian through early Spanish periods, but the main use of the site seems to have fallen in the Weeden Island (A.D. 100 to 1000) and Safety Harbor (A.D. 1000-1500) periods. Major excavations were conducted at Buck Island by WPA crews in the 1930s, when the land was part of the estate of Percy Rockefeller. The excavations, which were later described by Gordon Willey and Ripley Bullen, removed at least 28 burials. As the human remains at the University of South Florida are identified by a label reading “Site 1 [May 19 1970 Buck Island” and another reading “G. Smith Buck Island 8-Hi-6,” presumably, they were a donation from G. Smith. The human remains belong to one individual of undetermined age and sex. No known individual was identified. No associated funerary objects are present.

Sometime around 1984, human remains representing, at minimum, two individuals were removed from “Unknown Florida Site #1” located in Cockroach Bay Hillsborough County, FL. The human remains were donated to USF by the City of Tampa, Department of Public Works in 1984. Based on skeletal taphonomy, these human remains are determined to be Native American. The human remains belong to two individuals of undetermined age and sex. No known individuals were identified. No associated funerary objects are present.

At an unknown date, human remains representing, at minimum, one individual were removed from “Unknown Florida Site #2” but believed to be Safety Harbor, in Pinellas County, FL. The human remains, which appear to have been acquired by donation from the St. Petersburg Museum of History, are accompanied by a tag reading “Indian skull. Safety Harbor, Pinellas County, Florida.” They might be associated with the Safety Harbor site (8PI2), located on the western shore of Tampa Bay. If so, the human remains probably date to the Safety Harbor period, ca. A.D. 1000 to 1550. The human remains belong to one individual of undetermined age and sex. No known individual was identified. The 13 associated funerary objects are eight pottery fragments, one lightning whelk shell, one fossilized faunal bone, two flaked stones, and one possible groundstone.

Sometime in 1943 or earlier, human remains representing, at minimum, two individuals were removed from “Unknown Florida Site #3” believed to be in Pinellas County, FL. The remains were acquired from the St. Petersburg Historical Museum at an unknown date. They can be broadly traced to Pinellas County based on their identification as “Piece of Human Bone From Maximo Point 1943 Gift of Louis Poole.” Maximo Point is a toponym that may refer to one of several archeological sites on the southern tip of the Pinellas County peninsula. The human remains belong to one adult of undetermined sex and one juvenile of undetermined sex. No known individuals were identified. No associated funerary objects are present.

At an unknown date, human remains representing, at minimum, one individual were removed from “Unknown Florida Site #4” believed to be in Pinellas County, FL. The remains were obtained by donation from an unknown individual around 2011. Based on their identification as coming from the “Park Street Mound,” these human remains are likely associated with one of two mound sites along the western side of Park Street in St. Petersburg, Pinellas County—the Abercrombie Park complex (sites 8PI58 and 8PI10650) or the Jungle Prada site complex (site 8PI54). Components on these sites range from Late Archaic to Woodland to Safety Harbor (from 3000 B.C. to A.D. 1500), according the Florida Master Site File. The human remains belong to one individual of undetermined age and sex. No known individual was identified. No associated funerary objects are present.

At an unknown date, human remains representing, at minimum, four individuals were removed from “Unknown Florida Site #5” believed to be in Pinellas County, FL. These human remains can be reasonably traced to Pinellas County based on their identification as coming from “Burial Mound near Seminole Bridge (US Rte #6), St. Petersburg, Florida.” “Seminole Bridge” was the original link to Clearwater Beach from the Pinellas County mainland; it was completed in 1917 and replaced by a causeway in 1926. Although there are several known sites in the vicinity, none match the description of a burial mound. The human remains belong to three adults of undetermined sex and one juvenile of undetermined sex. No known individuals were identified. The two associated funerary objects are one fragment of groundstone and one faunal remain.

At an unknown date, human remains representing, at minimum, two individuals were removed from “Unknown Florida Site #6” believed to be in Pinellas County, FL. These human remains can be broadly associated with Pinellas County because of their identification as part of the Walter Fuller collection. H. Walter Fuller and his son Walter P. Fuller were prominent developers in St. Petersburg, Pinellas County, in the early and middle twentieth century. The USF Library curates the papers associated with Walter P. Fuller, and the human remains in our collection were acquired by transfer from the library in 2000. The human remains belong to one adult of indeterminate sex and one juvenile of indeterminate sex. No known individuals were identified. No associated funerary objects are present.

At an unknown date, human remains representing, at minimum, five individuals were removed from “Unknown Florida Site #7” believed to be in Pinellas County, FL. These human remains can be broadly associated with Pinellas County based on a box label reading “Snell Island.” Snell Island is a toponym in Pinellas County. (An addendum to our previous NAGPRA inventory indicates these human remains were acquired in 1978, but we have no documentation to substantiate this or to indicate the circumstances under which they were acquired.) The human remains belong to five individuals of undetermined age and sex. No known individuals were identified. No associated funerary objects are present.

At an unknown date, human remains representing, at minimum, one individual were removed from “Unknown Florida Site #8” believed to be in Pinellas County, FL. USF might have acquired them from the St. Petersburg Museum of History. These human remains can be broadly associated with Pinellas County based accompanying documentation that identifies them as part of a “mounted museum exhibit” and a museum label that describes them as “remains of an Indian who lived in this section many years ago . . . Capt. Barnett Harris, Florida Anthropological Society.” The human remains likely were exhibited at a now defunct museum—the Sea-Orama—that Harris operated in Clearwater, Pinellas County, from around 1952 to 1968. The human remains belong to one individual of undetermined age and sex. No known individual was identified. No associated funerary objects are present.

At an unknown date, human remains representing, at minimum, 15 individuals were removed from “Unknown Florida Site #9” believed to be in Citrus County, FL. These human remains can be broadly associated to Citrus County based on an accompanying tag reading “Ozella, FLA.” Ozello is an unincorporated community in Citrus County. These human remains appear to have been acquired as part of a larger donation from the former Hillsborough County Museum between 1967 (when the museum took this name) and 1980 (when it became the Museum of Science and Industry, or MOSI). The human remains belong to 12 adults of undetermined sex and three juveniles of undetermined sex. No known individuals were identified. No associated funerary objects are present.

At an unknown date, human remains representing, at minimum, one individual were removed from “Unknown Florida Site #10” believed to be in Lee County, FL. The human remains were part of a larger acquisition from the former Hillsborough County Museum (now MOSI), probably between 1967 and 1980. These human remains can be reasonably traced to Lee County, in southwestern Florida, based on an accompanying tag that reads “Pine Island near Boca Grande.” Pine Island and Boca Grande are islands near Cape Coral, Lee County. The human remains belong to one individual of undetermined age and sex. No known individual was identified. No associated funerary objects are present.

Determinations Made by the Department of Anthropology, University of South Florida

Officials of the Department of Anthropology, University of South Florida have determined that:

• Pursuant to 25 U.S.C. 3001(9), the human remains described in this notice represent the physical remains of 97 individuals of Native American ancestry.

• Pursuant to 25 U.S.C. 3001(3)(A), the 6,761 objects described in this notice are reasonably believed to have been placed with or near individual human remains at the time of death or later as part of the death rite or ceremony.

• Pursuant to 25 U.S.C. 3001(2), there is a relationship of shared group identity that can be reasonably traced between the Native American human remains and the Seminole Tribe of Florida [previously listed as Seminole Tribe of Florida (Dania, Big Cypress, Brighton, Hollywood, & Tampa Reservations)] and The Seminole Nation of Oklahoma (hereafter referred to as “The Tribes”).

Additional Requestors and Disposition

Lineal descendants or representatives of any Indian Tribe or Native Hawaiian organization not identified in this notice that wish to request transfer of control of these human remains should submit a written request with information in support of the request to Thomas J. Pluckhahn, Department of Anthropology, University of South Florida, 4202 E Fowler Avenue, SOC 107, Tampa, FL 33620-8100, telephone (813) 549-9742, email tpluckhahn@usf.edu, by September 10, 2021. After that date, if no additional requestors have come forward, transfer of control of the human remains to The Tribes may proceed.

The Department of Anthropology, University of South Florida is responsible for notifying The Tribes and The Invited Tribes that this notice has been published.

Dated: July 28, 2021.
Melanie O'Brien,
Manager, National NAGPRA Program.

[FR Doc. 2021-17058 Filed 8-10-21; 8:45 am]

BILLING CODE 4312-52-P